DEPARTMENT OF HEALTH AND HUMAN SERVICES

National Institutes of Health

Submission for OMB Review; Comment Request; The National Cancer Institute Cancer Information Service Comprehensive Evaluation Plan

SUMMARY: Under the provisions of section 3507(a)(1)(D) of the Paperwork Reduction Act of 1995, the National Cancer Institute (NCI) of the National Institutes of Health (NIH) has submitted to the Office of Management and Budget (OMB) a request for review and approval of the information collection listed below. This proposed information collection was previously published in the Federal Register on October 18, 2001, pages 52925-52926 and allowed 60 days for public comment. No public comments were received. The purpose of this notice is to allow an additional 30 days for public comment. The National Institutes of Health may not conduct or sponsor, the respondent is not required to respond to, an information collection that has been extended, revised, or implemented on or after October 1, 1995, unless it displays a currently valid OMB control number.

Proposed Collection

Title: The National Cancer Institute Cancer Information Service Comprehensive Evaluation Plan. Type of Information Collection Request: New. Need and Use of Information Collection: The NCI Office of Communications has dedicated resources to the Cancer Information Service Branch to conduct an independent, scientifically designed and implemented evaluation of the Cancer Information Service (CIS), an NCI program that serves as a national resource for information and education about cancer. The study will assess the extent to which the program has been implemented and the impact and outcomes of the program in affecting the public and CIS partners. Partners are national, state, and regional organizations that collaborate with CIS.

For this study, three separate data collection efforts will be conducted: (1) The National User Survey, a survey of a sample of CIS Information Service users; (2) the National Partner Survey, a survey of a sample of CIS Networking, Education Program, Program Development, and Research partners; and (3) the Case Study Audience Survey, a survey of audiences served by selected partners. The National User Survey and the National Partner Survey will be conducted using telephone interviews. The Case Study Audience Survey will be conducted using a survey mode that is most appropriate for the targeted audiences (i.e., telephone, self-administered, or in person). The findings will form the basis of annual reports on evaluation findings. These reports will provide assistance in improving the programs, products, and services of CIS. Frequency of Response: One time only with the exception of the Case Study Audience Survey, which includes a pre- and postsurvey. Affected Public: Organizations and not-for-profit institutions; state, local, or tribal government; individuals and households. Type of Respondents: Adults using CIS services and CIS partners. The annual reporting burden is as follows:

Table 1.—Respondent and Burden Estimate
Type of respondent | Estimated annual number of respondents | Estimated number of responses of per respondent | Total annual responses | Average burden hours per response | Estimated annualized burden
National User Survey
Screener respondents | 983 | 1 | 983 | 0.08 | 79
CIS users | 833 | 1 | 833 | 0.42 | 350
National Partner Survey
CIS partners | 333 | 1 | 333 | 0.75 | 250
Case Study Audience Survey
Case study audience | 133 | 2 | 266 | 0.25 | 67
Total | 2,282 |  | 2,415 |  | 746

The annualized cost to respondents is estimated at $7,554.00. There are no capital costs to report. There are no operating or maintenance costs to report.

Request for Comments

Written comments and/or suggestions from the public and affected agencies are invited on one or more of the following points: (1) Whether the proposed collection of information is necessary for the proper performance of the function of the agency, including whether the information will have practical utility; (2) the accuracy of the agency's estimate of the burden of the proposed collection of information, including the validity of the methodology and assumptions used; (3) ways to minimize the burden of the collection of information on those who are to respond, including the use of appropriate automated, electronic, mechanical, or other technological collection techniques or other forms of information technology.

Direct Comments To OMB

Written comments and/or suggestions regarding the items(s) contained in this notice, especially regarding the estimated public burden and associated response time, should be directed to the Office of Management and Budget, Office of Regulatory Affairs, New Executive Office Building, Room 10235, Washington, DC 20503, Attention: Desk Officer for NIH. To request more information on the proposed project or to obtain a copy of the data collection plans, contact Madeline La Porta, Project Office for Evaluation, Cancer Information Service Branch, National Cancer Institute, 6116 Executive Boulevard, MSC 8322, Bethesda, Maryland 20892-8322; by telephone at (301) 594-8025; by fax at (301) 402-0555.

Comments Due Date

Comments regarding this information collection are best assured of having their full effect if received within 30 days of the date of this publication.

Dated: April 11, 2002.
Reesa Nichols,
OMB Clearance Liaison.

[FR Doc. 02-9453 Filed 4-17-02; 8:45 am]

BILLING CODE 4140-01-M